POSTAL REGULATORY COMMISSION

[Docket No. CP2012-52; Order No. 1436]

International Mail Rates

AGENCY: Postal Regulatory Commission.

ACTION: Notice.

SUMMARY: The Commission is noticing a recently-filed Postal Service notice of changes in rates for Inbound International Expedited Services 2. This notice informs the public of the filing, addresses preliminary procedural matters, and invites public comment.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION: Notice of filing. The Commission hereby provides notice that on August 13, 2012, the Postal Service filed a Notice, pursuant to 39 CFR 3015.5, announcing its intention to change rates for Inbound International Expedited Services 2, effective January 1, 2013.¹ The Notice does not include any classification changes. Notice at 3.

¹ Notice of the United States Postal Service of Filing Changes in Rates Not of General Applicability and Application for Non-Public Treatment of Materials Filed Under Seal, August 10, 2012 (Notice).

Representations. The Postal Service states that Governors' Decision No. 08-20 established prices and classifications for this product and identifies subsequent dockets addressing price changes. Id. at 1-2. It also incorporates by reference (1) a previous explanation attributing the two-tiered rate structure for Inbound Expedited Services to the EMS Cooperative's expectation that all members will participate in the Pay-for-Performance Plan, and (2) a 2012 listing of countries indicating which designated postal operators fall into each price tier.² Id. at 2.

² See Docket No. CP2009-57 (for explanation of rate structure) and United States Postal Service Quarterly Update in Response to Order No. 162, Docket Nos. MC2009-10 and CP2009-12, July 20 2012 (for a list of countries).

The Postal Service asserts that the new rates for Inbound International Expedited Services 2 are in compliance with the requirements of 39 U.S.C. 3633(a)(2) and that it has met its burden of providing notice to the Commission of changed rates within the scope of Governors' Decision No. 11-6, as required by 39 U.S.C. 3632(b)(3). Id. at 3-4.

Attachments. The Notice includes an application for non-public treatment of materials filed under seal (Attachment 1). These materials include Governors' Decision Nos. 08-20 and 11-6, the new rates, and financial work papers prepared to demonstrate compliance with the 39 CFR 3015.5(c)(1). Other attachments include redacted copies of the referenced Governors' Decisions (Attachments 2A and 2B); a redacted set of the new rates (Attachment 3); and a certification addressing costs and prices (Attachment 4).

Public portions of the Postal Service's filing can be accessed via the Commission's Web site (http://www.prc.gov). Access to non-public documents is governed by Commission rule 3007.40.

Supplemental information. Pursuant to 39 CFR 3015.6, the Commission requests the Postal Service to provide, no later than August 24, 2012, its EMS Cooperative Report Cards, including performance measurements, for calendar year 2011.

Proceedings. The Commission establishes Docket No. CP2012-52 for consideration of matters raised by the instant Notice. Pursuant to 39 U.S.C. 505, it appoints James F. Callow to serve as officer of the Commission (Public Representative) representing the interests of the general public in these proceedings.

Interested persons may submit comments on whether the changes announced in the Notice are consistent with the requirements of 39 U.S.C. 3633(a)(2) and 39 U.S.C. 3632(b)(3) and related Commission rules. Comments are due no later than August 23, 2012. Comments are to be submitted via the Commission's Filing Online system at http://www.prc.gov unless a waiver is obtained. Information on how to obtain a waiver may be obtained by contacting the Commission's docket section at 202-789-6846.

It is ordered:

1. The Commission establishes Docket No. CP2012-52 for consideration of the Notice of the United States Postal Service of Filing Changes in Rates not of General Applicability and Application for Non-public Treatment of Materials Filed Under Seal, filed August 13, 2012.

2. The Commission requests the Postal Service to provide the Postal Service's EMS Cooperative Report Cards, including performance measurements, for calendar year 2011 no later than August 24, 2012.

3. Pursuant to 39 U.S.C. 505, the Commission appoints James F. Callow as Public Representative in this proceeding.

4. Comments are due no later than August 27, 2012.

5. The Secretary shall arrange for publication in the Federal Register.

By the Commission.
Ruth Ann Abrams,
Acting Secretary.

[FR Doc. 2012-20650 Filed 8-21-12; 8:45 am]

BILLING CODE 7710-FW-P